DEPARTMENT OF DEFENSE

Office of the Secretary

Department of Defense Military Family Readiness Council (MFRC); Notice of Federal Advisory Committee Meeting; Cancellation

AGENCY: Department of Defense.

ACTION: Notice; cancellation.

SUMMARY: On Friday, December 16, 2016 (81 FR 91147-91148), the Department of Defense published a notice announcing a meeting of the Military Family Readiness Council (MFRC) that was to take place on Thursday, January 26, 2017. Due to schedule conflicts, the MFRC is unable to assemble a quorum of members for this meeting. Therefore, the Department of Defense is cancelling the January 26, 2017 meeting.

FOR FURTHER INFORMATION CONTACT: Ms. Melody McDonald or Dr. Randy Eltringham, Office of the Deputy Assistant Secretary of Defense (Military Community & Family Policy), Office of Family Readiness Policy, 4800 Mark Center Drive, Alexandria, VA 22350-2300, Room 3G15. Telephones (571) 372-0880; (571) 372-5315 and/or email: OSD Pentagon OUSD P-R Mailbox Family Readiness Council, osd.pentagon.ousd-p-r.mbx.family-readiness-council@mail.mil.

SUPPLEMENTARY INFORMATION: Due to circumstances beyond the control of the Designated Federal Officer and the Department of Defense, the Military Family Readiness Council was unable to provide public notification cancelling its meeting of January 26, 2017, as required by 41 CFR 102-3.150(a). Accordingly, the Advisory Committee Management Officer for the Department of Defense, pursuant to 41 CFR 102-3.150(b), waives the 15-calendar day notification requirement.

Dated: January 17, 2017.
Aaron Siegel,
Alternate OSD Federal Register Liaison Officer, Department of Defense.

[FR Doc. 2017-01360 Filed 1-19-17; 8:45 am]

BILLING CODE 5001-06-P